DEPARTMENT OF AGRICULTURE

Animal and Plant Health Inspection Service

9 CFR Part 94

[Docket No. 01-059-2]

Change in Disease Status of Greece With Regard to Foot-and-Mouth Disease

AGENCY: Animal and Plant Health Inspection Service, USDA.

ACTION: Final rule.

SUMMARY: We are amending the regulations to add Greece to the list of regions that are considered free of rinderpest and foot-and-mouth disease. We are taking this action because we have determined that Greece is now free of foot-and-mouth disease. We are also adding Greece to the list of regions that are subject to certain import restrictions on meat or meat products because of their proximity to or trading relationships with rinderpest-or foot-and-mouth-disease-affected regions. These actions update the disease status of Greece with regard to foot-and-mouth disease while continuing to protect the United States from an introduction of this disease by providing additional requirements for any meat and meat products imported into the United States from Greece.

EFFECTIVE DATE: July 18, 2002.

FOR FURTHER INFORMATION CONTACT: Dr. Anne Goodman, Supervisory Staff Officer, Regionalization Evaluation Services Staff, VS, APHIS, 4700 River Road Unit 38, Riverdale, MD 20737-1231; (301) 734-4356.

SUPPLEMENTARY INFORMATION:

Background

The regulations in 9 CFR part 94 (referred to below as the regulations) govern the importation of certain animals and animal products into the United States in order to prevent the introduction of various diseases, including rinderpest, foot-and-mouth disease (FMD), African swine fever, hog cholera, and swine vesicular disease. These are dangerous and destructive communicable diseases of ruminants and swine. Section 94.1 lists regions of the world that are declared to be free of rinderpest or free of both rinderpest and FMD. The Animal and Plant Health Inspection Service (APHIS) considers rinderpest or FMD to exist in all parts of the world not listed. Section 94.11 of the regulations lists regions of the world that APHIS has determined to be free of rinderpest and FMD, but that are subject to certain restrictions because of their proximity to or trading relationships with rinderpest-or FMD-affected regions.

On March 21, 2002, we published in the Federal Register (67 FR 13105-13108, Docket No. 01-059-1) a proposal to amend the regulations to add Greece to the list in § 94.1(a) of regions that are considered free of rinderpest and FMD while removing Greece from the list of regions considered free of rinderpest only, also contained in § 94.1(a). In that document, we also proposed to add Greece to the list in § 94.11(a) of regions declared free of rinderpest and FMD, but that are subject to certain import restrictions on meat and meat products because of their proximity to or trading relationships with rinderpest-or FMD-affected countries.

We solicited comments concerning our proposal for 60 days ending March 20, 2002. We did not receive any comments. Therefore, for the reasons given in the proposed rule, we are adopting the proposed rule as a final rule, without change.

Effective Date

This is a substantive rule that relieves restrictions and, pursuant to the provisions of 5 U.S.C. 553, may be made effective less than 30 days after publication in the Federal Register. This rule adds Greece to the list of regions considered free of rinderpest and FMD. We have determined that approximately 2 weeks are needed to ensure that APHIS personnel at ports of entry receive official notice of this change in the regulations. Therefore, the Administrator of the Animal and Plant Health Inspection Service has determined that this rule should be effective 15 days after publication in the Federal Register.

Executive Order 12866 and Regulatory Flexibility Act

This rule has been reviewed under Executive Order 12866. For this action, the Office of Management and Budget has waived its review under Executive Order 12866.

We are amending the regulations to add Greece to the list of regions that are considered free of rinderpest and FMD. We are taking this action because we have determined that Greece is now free of FMD. We are also adding Greece to the list of regions that are subject to certain restrictions because of their proximity to or trading relationships with rinderpest- or FMD-affected countries. These actions update the disease status of Greece with regard to FMD while continuing to protect the United States from an introduction of rinderpest and FMD by providing additional requirements for any meat and meat products imported into the United States from Greece.

The following analysis addresses the potential economic effects of this rule as required by the Regulatory Flexibility Act.

From an economic standpoint, this rule is likely to have little or no impact on U.S. animal stock and commodities. There are two reasons. First, this rule will not remove other disease-based restrictions on the importation of ruminants or swine (and certain meat and other products from those animals) from Greece into the United States. Because bovine spongiform encephalopathy is considered to exist in Greece, the importation of ruminants and meat, meat products, and certain other products of ruminants that have been in Greece is prohibited. Furthermore, because hog cholera (also known as classical swine fever) and swine vesicular disease are also considered to exist in Greece, the importation of swine from that region into the United States is prohibited, and the importation of pork and pork products is subject to restrictions.

Second, it appears unlikely that the volume of animals and animal products that will be eligible for importation into the United States from Greece under this rulemaking will be sufficient to have a significant impact on the U.S. market. In 2000, Greece produced 287,765 metric tons of beef, veal, mutton, lamb, and pig meat, representing less than 1.5 percent of the comparable U.S. production that year. Similarly, Greece's production of whole, fresh cow milk was 770,000 metric tons, only 1 percent of the comparable U.S. production during that period. Finally, in 1999, live cattle and pig stock in Greece was 1,510,000 head, less than 1 percent of the comparable stock in the United States that year.¹

¹ Food and Agriculture Organization of the United States.

Besides cow milk, Greece also produces sheep and goat milk. In 2000, Greece produced 670,000 metric tons of sheep milk and 450,000 metric tons of goat milk. However, there appears to be no significant market in the United States for those commodities, or products made from them, such as cheese, as evidenced by the fact that no sheep or goat milk or cheese is commercially produced in the United States, and U.S. imports of those commodities are relatively minor. In 1999, for example, U.S. imports of cheese made from sheep and goat milk from all countries totaled 32,505 metric tons, less than 1 percent of the total U.S. cheese production.

In 1999, the stock of live sheep and goats in Greece was 14,276,000 head, or 66 percent more than the comparable stock in the United States that year. Here again, however, there appears to be no significant market in the United States for those animals, as evidenced by the fact that the United States imported only 53,165 live sheep and goats from all countries in 1999, which represents less than 1 percent of the sheep and goat stock in the United States that year and less than 1 percent of U.S. imports of all live animals from all countries in 1999.²

² Food and Agricultural Organization of the United Nations.

Entities potentially affected by this rule include U.S. import brokers, agents, and others involved in the sale of animals or animal products from Greece that will no longer be prohibited, or that will be possible to import under less restrictive conditions than they were prior to this rulemaking. The number and size of entities that will be directly involved in the importation and sale of such animals or animal products from Greece is unknown, but it is likely that these entities will be small, based on the U.S. Small Business Administration's (SBA) size standards.³ Given the disease-based restrictions discussed previously that will remain in place and the minimal level of U.S. imports of animals and animal products that will be eligible for importation from Greece, we expect that declaring Greece free of FMD will have only a negligible effect on U.S. entities, large or small.

³ The overwhelming majority of U.S. business entities are small under the SBA's standards.

Under these circumstances, the Administrator of the Animal and Plant Health Inspection Service has determined that this action will not have a significant economic impact on a substantial number of small entities.

Executive Order 12988

This final rule has been reviewed under Executive Order 12988, Civil Justice Reform. This rule: (1) Preempts all State and local laws and regulations that are inconsistent with this rule; (2) has no retroactive effect; and (3) does not require administrative proceedings before parties may file suit in court challenging this rule.

Paperwork Reduction Act

This final rule contains no information collection or recordkeeping requirements under the Paperwork Reduction Act of 1995 (44 U.S.C. 3501 et seq.).

Lists of Subjects in 9 CFR Part 94

Animal diseases, Imports, Livestock, Meat and meat products, Milk, Poultry and poultry products, Reporting and recordkeeping requirements.

Accordingly, we are amending 9 CFR part 94 as follows:

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

1. The authority citation for part 94 continues to read as follows:

Authority: 7 U.S.C. 450, 7711, 7712, 7713, 7714, 7751, and 7754; 19 U.S.C. 1306; 21 U.S.C. 111, 114a, 134a, 134b, 134c, 134f, 136, and 136a; 31 U.S.C. 9701; 42 U.S.C. 4331 and 4332; 7 CFR 2.22, 2.80, and 371.4.

§ 94.1 [Amended]

2. Section 94.1 is amended as follows:

a. In paragraph (a)(2), by adding, in alphabetical order, the word “Greece,”.

b. In paragraph (a)(3), by removing the words “Greece and the” and adding the word “The” in their place.

§ 94.11 [Amended]

3. In § 94.11, paragraph (a), the first sentence is amended by adding, in alphabetical order, the word “Greece,”.

Done in Washington, DC, this 27th day of June, 2002.
Bobby R. Acord,
Administrator, Animal and Plant Health Inspection Service.

[FR Doc. 02-16682 Filed 7-2-02; 8:45 am]

BILLING CODE 3410-34-P